DEPARTMENT OF JUSTICE

Antitrust Division

Notice Pursuant to the National Cooperative Research and Production Act of 1993—National Armaments Consortium

Notice is hereby given that, on May 31, 2022, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Aegis Aerospace, Houston, TX; MAK Technologies, Cambridge, MA; Solena Systems, Inc., Rochester, NY; J&E Precision Tool LLC, Southampton, MA; ADVANCED ARMOR RESEARCH GROUP LLC, Fredericksburg, VA; Parallax Advanced Research Corporation, Beavercreek, OH; SWR Technology, Freemont, CA; Cummings Aerospace, Inc., Huntsville, AL; Armaments Research Company, Inc., Bethesda, MD; Baker Engineering LLC, Nunica, MI; R2C AEROSPACE LLC, Huntsville, AL; GENERAL ELECTRIC COMPANY dba GE ADDITIVE, West Chester, OH; Georgia Tech Research Corporation, Atlanta, GA; Protection Engineering Consultants, Dripping Springs, TX; DESAPRO, Inc., Rockledge, FL; The NOMAD Group, LLC, Morristown, NJ; Arnold Defense and Electronics LLC, Arnold, MO; Light Steering Technologies, Inc., Manchester, NH; NextGen Aeronautics, Inc., Torrance, CA; Delta Research, Inc., Huntsville, AL; North Star Imaging, Inc., Rogers, MN; Kratos SRE, Inc., San Diego, CA; ACCURATE MACHINE & TOOL CORPORATION, Madison, AL; Biospherical Instruments, Inc., San Diego, CA; Big Metal Additive LLC, Denver, CO; Space Electronics LLC, Berlin, CT; Canfield Consulting Group, LLC dba Canfield CyberDefense Group, Olney, MD; Southwest Dynamic Systems LLC, Albuquerque, NM; BH Technology LLC, Pomona, NY; Aveox, Inc., Simi Valley, CA; Wolfspeed, Inc., Durham, NC; BC Engineered Products, Morristown, NJ; 4D Tech Solutions, Fairmont, WV; Systems & Technology Research LLC dba STR, Woburn, MA; Thomas & Skinner, Inc., Indianapolis, ID; Kapex Manufacturing LLC, Saginaw, MI; National Instruments Corporation, Austin, TX; Colt's Manufacturing Company LLC, West Hartford, CT; Premier Precision Machining, dba Rand Precision Machining, Falconer, NY; and Jeffrey Okamitsu dba Blue Force Consulting, Westminster, MD, have been added as parties to this venture.

Also, LinQuest Corporation, Los Angeles, CA; Gramago LLC, Norman, OK; Victory Solutions, Inc., Huntsville, AL; G&W Products LLC, Fairfield, OH; Columbus Technologies and Services, Inc., El Segundo, CA; Mountain Horse LLC, Colorado Springs, CO; Altavian, Inc., Gainsville, FL; Intevac Photonics, Inc., Santa Clara, CA; Spatial Integrated Systems, Inc., Virginia Beach, VA; Redpoint Engineering, Inc., Beavercreek, OH; Spear Power Systems LLC, Grandview, MO; AirTronic USA LLC, Spring Branch, TX; Pratt & Miller Engineering & Fabrication, Inc., New Hudson, MI; Invisible Interdiction, Inc., Vero Beach, FL; Sub-One Systems LLC, Tucson, AZ; Centauri LLC, Chantilly, VA; Diversified Technologies, Inc., Bedford, MA; Northrop Grumman Corporation, Azusa, CA; Intelligent Automation, Inc., Rockville, MD, Kopis Mobile LLC, Flowood, MS; Corficient Engineering Solutions, Inc., Lake Hopatcong, NJ; and Nammo Energetics Indian Head, Inc., Arlington, VA have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on January 20, 2022. A notice was published in the Federal Register pursuant to Section 6(b) of the Act on March 10, 2022 (87 FR 13756).

Suzanne Morris,
Chief, Premerger and Division Statistics, Antitrust Division.

[FR Doc. 2022-12897 Filed 6-14-22; 8:45 am]

BILLING CODE 4410-11-P